DEPARTMENT OF DEFENSE

Office of the Secretary

[Docket ID: DoD-2023-HA-0014]

Proposed Collection; Comment Request

AGENCY: Office of the Assistant Secretary of Defense for Health Affairs (OASD(HA)), Department of Defense (DoD).

ACTION: 60-Day information collection notice.

SUMMARY: In compliance with the Paperwork Reduction Act of 1995, the OASD(HA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 11, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Department of Defense, Washington Headquarters Services, ATTN: Executive Services Directorate, Directives Division, 4800 Mark Center Drive, Suite 03F09-09, Alexandria, VA 22350-3100, Angela Duncan, 571-372-7574.

SUPPLEMENTARY INFORMATION:

Title; Associated Form; and OMB Number: Health Related Behaviors Survey; OMB Control Number 0720-HRBS.

Needs and Uses: The Department of Defense's (DoD) Health Related Behaviors Survey (HRBS) is the largest population-based health survey of service members that collects self-report data on a number of important behavioral health issues affecting the wellbeing of active duty and reserve personnel. It provides a valuable snapshot of the overall behavioral health of the Force, both Active and Reserve Components, and alerts DoD leadership to areas of success, as well as areas where more attention—resources and policies—may be needed.

The survey fulfills several DoD requirements. First, Department of Defense Instruction (DoDI) 1010.01, dated September 13, 2012, on the Military Personnel Drug Abuse Testing Program (MPDATP) states: “Targeted and periodic surveys will be conducted of DoD MPDATP policy and guidance” (p. 9); the HRBS is the survey used for that documentation and to assess the effectiveness of DoD's Drug Demand Reduction Program (DDRP). Second, the HRBS permits comparisons between military populations in health behaviors over time. Importantly and contrary to other similar total force surveys in the military, the HRBS is a confidential survey conducted external to the DoD by a Federally Funded Research and Development Center. Thus, the HRBS has the advantage of reducing the possibility of underreporting of health behavior concerns associated with possible career impacts such as substance misuse. The items in the HRBS are informed directly by stakeholders and workgroups across the DoD who use the findings and data to respond to a variety of requests related to frequency of health-related problems in their services and health topic areas. The HRBS also allows for comparisons between military and civilian populations and can be used to assess progress with respect to identified goals and objectives for population health and well-being. For roughly the past 40 years, the Office of Disease Prevention and Health Promotion has developed a set of evidence-based objectives aimed at improving the health of American citizens. Benchmarks are established for 10-year cycles and the current set of goals is outlined in Healthy People 2030 (HP2030). DoDI 1010.10 states that it is Department policy to “Support the achievement of the Department of Health and Human Services' vision for improving the health of all Americans as outlined in Healthy People 2020.” Data from the HRBS facilitate comparisons to the updated HP2030 objectives. The 2023 version of the HRBS will assess a number of topics, including substance use and abuse (i.e., alcohol, tobacco, and illicit substances), physical and mental health, suicide, mental health service utilization, sexual health, and current topical issues affecting readiness.

Affected Public: Individuals or households.

Annual Burden Hours: 7,367.

Number of Respondents: 22,100.

Responses per Respondent: 1.

Annual Responses: 22,100.

Average Burden per Response: 20 minutes.

Frequency: On occasion.

Approximately 250,000 randomly selected active-duty service members from the Air Force, Army, Marine Corps, Navy, Space Force, and Coast Guard (excluding those at flag rank [07 and above] and trainees [e.g., students at military academies]) will be invited by both mail and email to participate in a one-time, web-based, confidential survey. The survey, the HRBS, has been routinely fielded roughly every three years since 1980 and is DoD's flagship self-report survey on the health and health behaviors of service members. Sample members will receive an initial survey invitation via postal mail as well as via email. Over the course of 12 weeks, respondents will receive one follow up postal letter and up to five reminder emails. These reminders are only sent to those sample members who have not yet completed the survey or opted out of notifications. The survey, which is web-based and can be taken on a desktop, laptop, or mobile device (e.g., smartphone, tablet), should take approximately 20 minutes to complete. Each respondent receives a unique identification code which will allow him/her to take the survey at a specified website. Once a respondent is finished, he/she submits the survey electronically. The survey will be administered by Westat, RAND's survey vendor. Westat will maintain and clean the responses and provide RAND with a final dataset. We expect roughly 22,100 completed surveys.

Dated: February 7, 2023.
Aaron T. Siegel,
Alternate OSD Federal Register Liaison Officer, Department of Defense.

[FR Doc. 2023-02904 Filed 2-9-23; 8:45 am]

BILLING CODE 5001-06-P